NUCLEAR REGULATORY COMMISSION

Sunshine Act Meeting

Agency Holding the Meetings: Nuclear Regulatory Commission.

Date: Weeks of December 26, 2005, January 2, 9, 16, 23, 30, 2006.

Place: Commissioners' Conference Room, 11555 Rockville Pike, Rockville, Maryland.

Status: Public and Closed.

Matters to be Considered

Week of December 26, 2005

Friday, December 30, 2005

12 noon—Affirmation Session (Public Meeting) (Tentative). a. Final Rule—AP1000 Design Certification (Tentative). (Contact: Michelle Schroll, 301-415-1662)

Week of January 2, 2006—Tentative

There are no meetings scheduled for the Week of January 2, 2006.

Week of January 9, 2006—Tentative

Tuesday, January 10, 2006

9:30 a.m.—Briefing on International Research and Bilateral Agreements (Public Meeting). (Contact: Roman Shaffer, 301-415-7606)

This meeting will be webcast live at the Web address http://www.nrc.gov

Wednesday, January 11, 2006

1:55 p.m.—Affirmation Session (Public Meeting) (Tentative). a. Hydro Resources, Inc. (Crownpoint, New Mexico) Petition for Review of LBP-05-17 (Groundwater Issues) (Tentative)

2:00 p.m.—Meeting with Advisory Committee on Nuclear Waste (ACNW) (Public Meeting). (Contact: John Larkins, 301-415-7360)

This meeting will be webcast live at the Web address http://www.nrc.gov.

Thursday, January 12, 2006

9:30 a.m.—Discussion of Security Issues (closed—ex. 2 & 3).

Week of January 16, 2006—Tentative

Tuesday, January 17, 2006

1:30 p.m.—Discussion of Security Issues (closed—ex. 1 & 3).

Week of January 23, 2006—Tentative

There are no meetings scheduled for the Week of January 23, 2006.

Week of January 30, 2006—Tentative

Tuesday, January 31, 2006

9:30 a.m.—Briefing on Strategic WorkForce Planning and Human Capital Initiatives (closed—ex. 2).

Wednesday, February 1, 2006

9:30 a.m.—Discussion of Security Issues (closed—ex. 1 & 3).

*The schedule for Commission meetings is subject to change on short notice. To verify the status of meetings call (recording)—(301) 415-1292. Contact person for more information: Michelle Scroll, (301) 415-1662.

* * * * *

The NRC Commission Meeting Schedule can be found on the Internet at: http://www.nrc.gov/what-we-do/policy-making/schedule.html

* * * * *

The NRC provides reasonable accommodation to individuals with disabilities where appropriate. If you need a reasonable accommodation to participate in these public mergings, or need this meeting notice or the transcript or other information from the public meetings in another format (e.g., braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Interned system is available. If you are interested in receiving this Commission meeting schedule electronically, please send an electronic message to dkw@nrc.gov.

Dated: December 22, 2005.
R. Michelle Scroll,
Office of the Secretary.

[FR Doc. 05-24628 Filed 12-23-05; 3:06 pm]

BILLING CODE 7590-01-M